DEPARTMENT OF HEALTH AND HUMAN SERVICES

Centers for Disease Control and Prevention

[Program Announcement 04064 (Supplemental)]

ADAPT: Adopting and Demonstrating the Adaptation of Prevention Techniques Amendment

A notice announcing the availability of supplemental fiscal year (FY) 2004 funds for a cooperative agreement entitled, “ADAPT: Adopting and Demonstrating the Adaptation of Prevention Techniques” was published in the Federal Register Monday, August 23, 2004, volume 69, number 162, pages 51847-51851. The notice is amended as follows:

• On page 51849, column two, the Funding Restrictions section, please note funds provided by the ADAPT supplement can only be used for the adaptation of the intervention being implemented with the original PA 04064 funding. Adaptation activities include formative activities, monitoring and evaluation of the processes used to adapt the intervention, and evaluation of the adapted intervention and not for implementation of the intervention.

• On page 51847, column two, the Activities section, please note preference for ADAPT supplemental funding will no longer be given to Many Men, Many Voices. The following interventions will be equally considered for ADAPT supplemental funding:

1. Community Promise

2. Healthy Relationships

3. Holistic Harm Reduction

4. Many Men, Many Voices

5. Mpowerment

6. Partnership for Health

7. Popular Opinion Leader

8. Real AIDS Prevention Project

9. Safety Counts

10. SISTA

11. Street Smart

12. Teens Link to Care

13. VOICES/VOCES

• On page 51848, column one, Eligibility section, please note the sample size listed in letter b should be amended. The sample size should be similar to the original study. However, when this is not possible, the applicants who propose the largest sample sizes may be given preference. A minimum sample size of 200 is desirable but not required.

Dated: September 10, 2004.
William P. Nichols,
Acting Director, Procurement and Grants Office, Centers for Disease Control and Prevention.

[FR Doc. 04-20875 Filed 9-15-04; 8:45 am]

BILLING CODE 4163-18-P